DEPARTMENT OF TRANSPORTATION

National Highway Traffic Safety Administration

[DOT Docket No. NHTSA-2013-0001]

Uniform Procedures for State Highway Safety Grant Programs

AGENCY: National Highway Traffic Safety Administration, DOT.

ACTION: Request for public comment on collection of information.

SUMMARY: In compliance with the Paperwork Reduction Act of 1995 (44 U.S.C. 3501 et seq.), on January 23, 2013 (78 FR 4986), the agency published a notice in the Federal Register soliciting public comment on the proposed Information Collection Request (ICR) abstracted below. In further compliance, the agency now publishes this additional notice announcing that the information collection request has been forwarded to the Office of Management and Budget (OMB) for review and comment.

DATES: Comments must be submitted on or before September 30, 2013.

ADDRESSES: Written comments to NHTSA may be submitted using any one of the following methods:

• Mail: Send comments to: Docket Management Facility, M-30, U.S. Department of Transportation, 1200 New Jersey Avenue SE., West Building, Room W12-140, Washington, DC 20590.

• Fax: Written comments may be faxed to (202) 493-2251.

• Internet: To submit comments electronically, go to the U.S. Government regulations Web site at http://www.regulations.gov. Follow the online instructions for submitting comments.

• Hand Delivery: If you plan to submit written comments by hand or courier, please do so at 1200 New Jersey Avenue SE., West Building, Ground Floor, Room W12-140, Washington, DC, between 9 a.m. and 5 p.m., Eastern Time, Monday through Friday, except Federal holidays.

Whichever way you submit your comments, please remember to identify the docket number of this document within your correspondence. You may contact the docket by telephone at (202) 366-9324.

Docket: All documents in the dockets are listed in the http://www.regulations.gov index. Publicly available docket materials are available either electronically in www.regulations.gov or in hard copy at the Docket Management Facility, M-30, U.S. Department of Transportation, West Building, Ground Floor, Room W12-140, 1200 New Jersey Avenue SE., Washington, DC. The Docket Management Facility is open between 9 a.m. and 5 p.m., Eastern Time, Monday through Friday, except Federal holidays.

FOR FURTHER INFORMATION CONTACT: Barbara Sauers, Program Manager, National Highway Traffic Safety Administration, Office of Regional Operations and Program Delivery. Telephone number: (202) 366-2121. Email address: Barbara.Sauers@dot.gov.

SUPPLEMENTARY INFORMATION:

National Highway Traffic Safety Administration

Title: Uniform Procedures for State Highway Safety Grant Programs.

OMB Number: 2127-0687.

Type of Request: Approval of information collection request used for the administration of state highway safety grant programs.

Affected Public: 57 State governments and jurisdictions (fifty States, the District of Columbia, Puerto Rico, U.S. Virgin Islands, Guam, American Samoa, the Commonwealth of the Northern Mariana Islands, and the Secretary of the Interior).

Abstract: MAP-21, the Moving Ahead for Progress in the 21st Century Act (Pub. L. 112-141), authorizes the National Highway Traffic Safety Administration to issue highway safety grants to States under Chapter 4 of Title 23, U.S.C. for fiscal years (FY) 2013-14. These Chapter 4 grant programs are identified as the Highway Safety Program Grants under 23 U.S.C. 402 and the National Priority Safety Program Grants under 23 U.S.C. 405.

Under MAP-21, the statute directs States to submit a Highway Safety Plan (HSP) that serves as a single, consolidated application for the grants. The information collected as part of the required HSP includes information on the highway safety planning process, performance plan, highway safety strategies and projects, performance report, program cost summary, certifications and assurances, and an application for Section 405 grants. In general, a State is required to submit information to the agency that supports its qualifications for receiving grant funds.

Consistent with the statute, the agency published an interim final rule creating an application process for States to apply for these grant funds. An additional section of the interim final rule explained the agency's information collection request identifying the affected public and estimating the burden hours.

The estimated burden hours for the collection of information were based on all eligible respondents (i.e., applicants) for each of the grants:

• Section 402 grants: 57 (fifty States, the District of Columba, Puerto Rico, U.S. Virgin Islands, Guam, American Samoa, the Commonwealth of the Northern Mariana Islands, and the Secretary of the Interior);

• Section 405(f) grants: 52 (fifty States, the District of Columbia, and Puerto Rico);

• Section 405(a)-(e), (g) grants: 56 (fifty States, the District of Columba, Puerto Rico, U.S. Virgin Islands, Guam, American Samoa, and the Commonwealth of the Northern Mariana Islands).

The agency estimated that it would take each respondent approximately 240 hours to collect, review and submit the reporting information to NHTSA for the Section 402 program and further estimated that it would take each respondent approximately 180 hours to collect, review and submit the reporting information to NHTSA for the Section 405 program. Based on the above information, the estimated annual burden hours for all respondents is 23,940 hours.

Assuming the average salary of these individuals is $50.00 per hour, the estimated cost for each respondent is $21,000; the estimated total cost for all respondents is $1,197,000. (This represents a reduced burden estimate from the interim final rule to reflect that this notice does not include burden estimates for the program cost summary information included with the HSP (i.e., HS-217 form). This information is collected under a previously approved information collection request (OMB Control Number 2127-0003.))

These estimates present the highest possible burden hours and amounts possible. All States do not apply for and receive a grant each year under each of these programs.

In response to the information collection request published in the interim final rule, the agency received one comment from the Montana Department of Transportation referencing paperwork reduction act criteria. The commenter concludes that the agency violated the paperwork reduction act by requiring that States submit certain information with their grant applications. However, in our view, this comment concerns substantive grant application requirements, rather than identifying specific issues with paperwork reduction act compliance. As a result, we will respond to this comment along with other similar comments on grant application requirements in the final rule.

Comments are invited on:

• Whether the collection of information is necessary for the proper performance of the functions of the Department, including whether the information will have practical utility.

• Whether the Department's estimate for the burden of the information collection is accurate.

• Ways to minimize the burden of the collection of information on respondents, including the use of automated collection techniques or other forms of information technology.

Please submit any comments, identified by the docket number in the heading of this document, by any of the methods described in the ADDRESSES section of this document. Comments are due by September 30, 2013.

Mary D. Gunnels,
Associate Administrator, Regional Operations and Program Delivery.

[FR Doc. 2013-21037 Filed 8-28-13; 8:45 am]

BILLING CODE P